NUCLEAR WASTE TECHNICAL REVIEW BOARD

Board Meeting

Board meeting: September 24, 2008—Las Vegas, Nevada; The U.S. Nuclear Waste Technical Review Board will meet to discuss Department of Energy plans for preclosure operations related to a proposed repository for spent nuclear fuel and high-level radioactive waste at Yucca Mountain in Nevada.

Pursuant to its authority under section 5051 of Public Law 100-203, Nuclear Waste Policy Amendments Act of 1987, the U.S. Nuclear Waste Technical Review Board will meet in Las Vegas, Nevada, on Wednesday, September 24, 2008. At the meeting, the Board will review U.S. Department of Energy (DOE) activities related to designing and operating a waste management system in connection with the proposed repository for spent nuclear fuel and high level radioactive waste (HLW) at Yucca Mountain in Nevada. Among the issues that will be discussed are acceptance of spent nuclear fuel or HLW at commercial reactors or defense facilities; packaging of commercial spent nuclear fuel in transportation, aging, and disposal (TAD) canisters; transportation of the waste, including construction of a Nevada rail line; throughput of the waste at repository surface facilities; and plans for prototyping and testing of waste management equipment and facilities. The Board was charged in the Nuclear Waste Policy Amendments Act of 1987 with conducting an independent review of the technical and scientific validity of DOE activities related to the implementation of the Nuclear Waste Policy Act, including disposing of, packaging, and transporting spent nuclear fuel and HLW.

The Board meeting will be held at the Suncoast Hotel & Casino, 9090 Alta Drive, Las Vegas (Summerlin), Nevada 89145; (tel) 702-636-7111, (toll free) 877-677-7111.

A meeting agenda will be available on the Board's Web site, http://www.nwtrb.gov, approximately one week before the date of the meeting. The agenda also may be obtained by telephone request at that time. The meeting will be open to the public, and opportunities for public comment will be provided.

Board Chairman B. John Garrick will call the meeting to order at 8 a.m. Dr. Garrick's remarks will be followed by a DOE program overview and project status report. DOE then will make a presentation on issues related to waste acceptance, followed by a utility perspective on the same subject. After a break for lunch, the implications of TAD utilization for transportation and repository site operations will be discussed. A presentation on integrated systems' operations will follow. The last presentation of the day will be on DOE's prototyping and testing program for waste management equipment and facilities.

Time will be set aside at the end of the day for public comments. Those wanting to speak are encouraged to sign the “Public Comment Register” at the check-in table. A time limit may have to be set on individual remarks, but written comments of any length may be submitted for the record.

Transcripts of the meeting will be available on the Board's Web site, by e-mail, on computer disk, and on a library-loan basis in paper format from Davonya Barnes of the Board's staff no later than October 20, 2008.

A block of rooms has been reserved for meeting attendees at the Suncoast Hotel & Casino. When making a reservation, please state that you will be attending the Nuclear Waste Technical Review Board meeting, Group Code: NWTRBO8. Reservations should be made by August 29, 2008, to ensure receiving the meeting rate. To make reservations, call 866-636-7111 or access hotel reservations online at http://www.suncoastcasino.com.

For more information, contact Karyn Severson, NWTRB External Affairs, 2300 Clarendon Boulevard, Suite 1300, Arlington, VA 22201-3367; (tel) 703-235-4473; (fax) 703-235-4495.

Dated: July 31, 2008.
William D. Barnard,
Executive Director, Nuclear Waste Technical Review Board.

[FR Doc. E8-17945 Filed 8-5-08; 8:45 am]

BILLING CODE 6820-AM-P